DEPARTMENT OF LABOR

Employee Benefits Security Administration

Agency Information Collection Activities; Announcement of OMB Approvals

AGENCY: Employee Benefits Security Administration, Department of Labor.

ACTION: Notice.

SUMMARY: The Employee Benefits Security Administration (EBSA) announces that the Office of Management and Budget (OMB) has approved certain collections of information, listed in the Supplementary Information below, following EBSA's submission of requests for such approvals under the Paperwork Reduction Act of 1995. This notice describes the information collections that have been approved or re-approved, their OMB control numbers, and their current expiration dates.

FOR FURTHER INFORMATION CONTACT: G. Christopher Cosby, Office of Policy and Research, Employee Benefits Security Administration, U.S. Department of Labor, 200 Constitution Avenue NW., Room N-5718, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0039, Summary Plan Description Requirements under the Employee Retirement Income Security Act of 1974, as amended. The expiration date for this information collection is August 31, 2019.

• OMB Control No. 1210-0040, Employee Retirement Income Security Act Summary Annual Report Requirement. The expiration date for this information collection is April 30, 2019.

• OMB Control No. 1210-0049, Prohibited Transaction Class Exemption for Certain Transactions Between Investment Companies and Employee Benefit Plans (PTE 1977-4). The expiration date for this information collection is December 31, 2019.

• OMB Control No. 1210-0053, Employee Benefit Plan Claims Procedure Under the Employee Retirement Income Security Act. The expiration date for this information collection is November 30, 2019.

• OMB Control No. 1210-0058, Prohibited Transaction Class Exemptions for Multiple Employer Plans and Multiple Employer Apprenticeship Plans—PTE 1976-1, PTE 1977-10, PTE 1978-6. The expiration date for this information collection is June 30, 2019.

• OMB Control No. 1210-0064, Sale of Securities To Reduce Indebtedness of Party In Interest—Prohibited Transaction Class Exemption 1980-83. The expiration date for this information collection is November 30, 2019.

• OMB Control No. 1210-0065, Securities Lending by Employee Benefit Plans, Prohibited Transaction Exemption 2006-16. The expiration date for this information collection is August 31, 2019.

• OMB Control No. 1210-0082, Bank Collective Investment Funds, Prohibited Transaction Class Exemption 1991-38. The expiration date for this information collection is February 28, 2019.

• OMB Control No. 1210-0085, Foreign Currency Transactions, Prohibited Transaction Class Exemption 1994-20. The expiration date for this information collection is February 28, 2019.

• OMB Control No. 1210-0090, Disclosures for Participant Directed Individual Account Plans. The expiration date for this information collection is February 28, 2019.

• OMB Control No. 1210-0095, Prohibited Transaction Class Exemption 1988-59, Residential Mortgage Financing Arrangements Involving Employee Benefit Plans. The expiration date for this information collection is August 31, 2019.

• OMB Control No. 1210-0100, Definition of Plan Assets-Participant Contributions. The expiration date for this information collection is February 28, 2019.

• OMB Control No. 1210-0101, Notice of Special Enrollment Rights under Group Health Plans. The expiration date for this information collection is June 30, 2019.

• OMB Control No. 1210-0104, Collective Investment Funds Conversion Transactions, Prohibited Transaction Class Exemption 1997-41. The expiration date for this information collection is February 28, 2019.

• OMB Control No. 1210-0113, National Medical Support Notice-Part B. The expiration date for this information collection is August 31, 2019.

• OMB Control No. 1210-0116, Annual Report for Multiple Employer Welfare Arrangements. The expiration date for this information collection is June 30, 2019.

• OMB Control No. 1210-0119, Petition for Finding under Employee Retirement Income Security Act Section 3(40). The expiration date for this information collection is November 30, 2019.

• OMB Control No. 1210-0123, Notice Requirements of the Health Care Continuation Coverage Provisions. The expiration date for this information collection is December 31, 2019.

• OMB Control No. 1210-0125, Employee Retirement Income Security Act of 1974 Investment Manager Electronic Registration. The expiration date for this information collection is August 31, 2019.

• OMB Control No. 1210-0128, Plan Asset Transactions Determined by Independent Qualified Professional Asset Managers under Prohibited Transaction Exemption 1984-14. The expiration date for this information collection is December 31, 2019.

• OMB Control No. 1210-0130, Statutory Exemption for Cross-Trading of Securities. The expiration date for this information collection is November 30, 2019.

• OMB Control No. 1210-0131, Access to Multiemployer Plan Information. The expiration date for this information collection is August 31, 2019.

• OMB Control No. 1210-0136, Genetic Information Nondiscrimination Act of 2008 Research Exception Notice. The expiration date for this information collection is February 28, 2019.

• OMB Control No. 1210-0137, Model Employer Children's Health Insurance Program Notice. The expiration date for this information collection is December 31, 2019.

• OMB Control No. 1210-0145, Plan Asset Transactions Determined by In-House Asset Managers under Prohibited Transaction Class Exemption 96-23. The expiration date for this information collection is November 30, 2019.

• OMB Control No. 1210-0148, Multiple Employer Welfare Arrangement Administrative Law Judge Administrative Hearing Procedures. The expiration date for this information collection is June 30, 2019.

EBSA hereby notifies the public that the following information collections have been approved by OMB following EBSA's submission of an information collection request (ICR) for a revision of a currently approved collection:

• OMB Control No. 1210-0059, Employee Retirement Income Security Act Prohibited Transaction Exemption 1986-128 For Securities Transactions Involving Employee Benefit Plans and Broker-Dealers. The expiration date for this information collection is June 30, 2019.

• OMB Control No. 1210-0092, Prohibited Transaction Class Exemption 75-1, Security Transactions with Broker-Dealers, Reporting Dealers, and Banks. The expiration date for this information collection is June 30, 2019.

• OMB Control No. 1210-0140, Affordable Care Act Grandfathered Health Plan Disclosure, Recordkeeping Requirement, and Change in Carrier Disclosure. The expiration date for this information collection is March 31, 2019.

• OMB Control No. 1210-0141, Affordable Care Act Advance Notice of Rescission. The expiration date for this information collection is March 31, 2019.

• OMB Control No. 1210-0142, Patient Protection and Affordable Care Act Patient Protection Notice. The expiration date for this information collection is March 31, 2019.

• OMB Control No. 1210-144, Affordable Care Act Internal Claims and Appeals and External Review Procedures for Non-Grandfathered Plans. The expiration date for this information collection is March 31, 2019.

• OMB Control No. 1210-0147, Summary of Benefits and Coverage and Uniform Glossary Required Under the Affordable Care Act. The expiration date for this information collection is April 30, 2019.

EBSA hereby notifies the public that the following new information collections have been approved by OMB following EBSA's submission of an information collection request (ICR):

• OMB Control No. 1210-0155, Conflicted Investment Advice Rule Fiduciary Exception Disclosure Requirements. The expiration date for this information collection is May 31, 2019.

• OMB Control No. 1210-0156, Best Interest Contract Prohibited Transaction Exemption. The expiration date for this information collection is June 30, 2019.

• OMB Control No. 1210-0157, Prohibited Transaction Class Exemption for Principal Transactions. The expiration date for this information collection is June 30, 2019.

• OMB Control No. 1210-0158, PTE 84-24 (Insurance and Annuity Contracts and Mutual Fund Principal Underwriters). The expiration date for this information collection is June 30, 2019.

The PRA provides that an agency may not conduct or sponsor, and a person is not required to respond to, a collection of information unless it displays a currently valid OMB control number. Publication of this notice satisfies this requirement with respect to the above-listed information collections, as provided in 5 CFR 1320.5(b)(2)(C).

Dated: February 3, 2017.
Joseph S. Piacentini,
Director, Office of Policy and Research, Employee Benefits Security Administration.

[FR Doc. 2017-09744 Filed 5-12-17; 8:45 am]

BILLING CODE 4510-29-P